DEPARTMENT OF THE INTERIOR

Bureau of Land Management

[LLORV00000.L10200000. DF0000.LXSSH1050000. 17X.HAG 17-0148]

Notice of Public Meetings for the Southeast Oregon Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM) Southeast Oregon Resource Advisory Council (RAC) will meet as indicated below.

DATES: The Southeast Oregon RAC will hold a public meeting on Monday and Tuesday, October 16 and 17, 2017. The October 16 meeting will consist of a field trip to view the Beaty Butte Wild Horse Training Facility and a local mining claim, departing at 8 a.m. and returning at 5 p.m. The October 17 meeting will begin at 8 a.m. and end at 1 p.m. A public comment period will be available from 12:00 p.m. to 12:30 p.m. The final agenda will be posted online at http://www.blm.gov/or/rac/seorrac.php on or before October 3, 2017.

ADDRESSES: The Southeast Oregon RAC will meet at the BLM Lakeview Interagency Center, 1301 S. G St., Lakeview, OR 97630, for both the Monday, October 16, field trip and the RAC business meeting.

FOR FURTHER INFORMATION CONTACT: Larisa Bogardus, Public Affairs Officer, 1301 South G Street, Lakeview, Oregon 97630; 541-947-6237; lbogardus@blm.gov. Persons who use a telecommunications device for the deaf (TDD) may call the Federal Relay Service (FRS) at 1(800) 877-8339 to contact the above individual during normal business hours. The FRS is available 24 hours a day, 7 days a week, to leave a message or question with the above individual. You will receive a reply during normal business hours.

SUPPLEMENTARY INFORMATION: The 15-member Southeast Oregon RAC was chartered and appointed by the Secretary of the Interior. The members represent commodity, conservation, and general interests. They provide advice to BLM and Forest Service resource managers regarding management plans and proposed resource actions on public land in southeast Oregon. All meetings are open to the public in their entirety. Information to be distributed to the the Southeast Oregon RAC is requested prior to the start of each meeting.

Before including your address, phone number, email address, or other personal identifying information in your comment, please be aware that your entire comment—including your personal identifying information—may be made publicly available at any time. While you can ask us in your comment to withhold your personal identifying information from public review, we cannot guarantee that we will be able to do so.

Authority: 43 CFR 1784.4-2.

Donald Gonzalez,
Vale District Manager.

[FR Doc. 2017-21962 Filed 10-10-17; 8:45 am]

BILLING CODE 4310-33-P